DEPARTMENT OF THE INTERIOR

Fish and Wildlife Service

Recovery Plan for Camissonia benitensis (San Benito evening-primrose)

AGENCY: Fish and Wildlife Service, Interior.

ACTION: Notice of document availability.

SUMMARY: We, the U.S. Fish and Wildlife Service (Service), announce the availability of the Recovery Plan for Camissonia benitensis (San Benito evening-primrose). This plant species is found primarily in the Clear Creek Management Area (CCMA) in San Benito County, California; the CCMA is managed by the Hollister Field Office of the Bureau of Land Management.

ADDRESSES: Printed copies of this recovery plan will be available in 4 to 6 weeks by request from the Ventura Fish and Wildlife Office, 2493 Portola Road, Suite B, Ventura, California 93003 (phone: 805/644-1766). An electronic copy of this recovery plan is now available on the World Wide Web at http://endangered.fws.gov/recovery/index.html#plans.

FOR FURTHER INFORMATION CONTACT: Connie Rutherford, botanist, at 805/644-1766.

SUPPLEMENTARY INFORMATION:

Background

Restoring endangered or threatened animals and plants to the point where they are again secure, self-sustaining members of their ecosystems is a primary goal of our endangered species program. The Endangered Species Act (16 U.S.C. 1531 et seq.) (Act) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the Act requires that public notice and an opportunity for public review and comment be provided during recovery plan development. In fulfillment of this requirement, information presented during the public comment period and comments from peer reviewers have been considered in the preparation of this final recovery plan, and are summarized in Appendix D to the recovery plan. We will forward substantive comments regarding recovery plan implementation to appropriate Federal or other entities so they can take these comments into account during the course of implementing recovery actions.

Camissonia benitensis was listed as threatened in 1985 and is associated with serpentine-derived soils within the San Benito serpentine body in the southern Coast Ranges of California. Populations of Camissonia benitensis are usually found on small streamside terraces that have formed at the base of slopes within watersheds that flow off of San Benito Mountain, which, at 5,247 feet (2,000 meters), is the highest point in this stretch of the Coast Ranges. The entire range of the species spans an area about 20 miles long and 5 miles wide.

Camissonia benitensis is an ephemeral annual species whose numbers of individuals can fluctuate drastically from year to year. While favorable climatic conditions in an occasional year may result in tens of thousands of individuals, more often populations are small in numbers of individuals and in the amount of acreage they occupy.

The primary threat to Camissonia benitensis is off-highway vehicle recreation activity in the CCMA. Although most terrace sites that support occupied or suitable habitat for the species have been administratively closed and either wholly or partially fenced by the Bureau, off-highway vehicles continue to access a certain number of these sites and cause direct damage to plants and their habitat. Other forms of recreation such as rock collecting, hunting, and nature hiking are comparatively minor threats. In addition, the natural erosion rate of the serpentine slopes above the terraces is exacerbated by human recreational activities that contribute to deposition on top of the terraces as well as erosion of the terraces due to sediment loading of streams and subsequent flooding.

The objective of a recovery plan is to provide a framework for the recovery of the species so that protection by the Act is no longer necessary. Actions necessary to accomplish this objective include: (1) Protecting existing populations and suitable habitat, (2) reducing or eliminating soil erosion and stream sedimentation in the watersheds that support habitat for the species, (3) developing a species management plan that includes needed research and monitoring, (4) establishing an ex situ seed collection, and (5) developing and implementing a public outreach program.

Authority

The authority for this action is section 4(f) of the Endangered Species Act, 16 U.S.C. 1533(f).

Steve Thompson,
Manager, California-Nevada Operations Office, U.S. Fish and Wildlife Service.

[FR Doc. E6-15508 Filed 9-18-06; 8:45 am]

BILLING CODE 4310-55-P